SMALL BUSINESS ADMINISTRATION

Region IX Regulatory Fairness Board; Public Federal Regulatory Enforcement Fairness Hearing

The Small Business Administration Region IX Regulatory Fairness Board and the SBA Office of the National Ombudsman, will hold a Public Hearing on Monday, March 11, 2002 at 8:30 a.m. at the Balboa Park Club, Santa Fe Room, 2150 Pan American Road West, San Diego, CA 92101, to receive comments and testimony from small business owners, small government entities, and small non-profit organizations concerning the regulatory enforcement and compliance actions taken by federal agencies.

Anyone wishing to attend or to make a presentation must contact Suzanne Ghorpade in writing or by fax, in order to be put on the agenda. Suzanne Ghorpade, U.S. Small Business Administration, San Diego District Office, 550 West “C” Street, Suite 550, San Diego, CA 92101, Phone (619) 557-7250, ext.1114, fax (619) 557-3441, e-mail: suzanne.ghorpade@sba.gov.

For more information, see our Web site at www.sba.gov/ombudsman.

Dated: February 27, 2002.
Michael L. Barrera,
National Ombudsman.

[FR Doc. 02-5405 Filed 3-6-02; 8:45 am]

BILLING CODE 8025-01-P